DEPARTMENT OF COMMERCE

National Oceanic and Atmospheric Administration

RIN 0648-XE873

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 124th Scientific and Statistical Committee (SSC) meeting, Fishing Industry Advisory Committee and its 168th Council meeting to take actions on fishery management issues in the Western Pacific Region.

DATES: The meetings will be held between October 4 and October 14. For specific dates, times and agendas, see SUPPLEMENTARY INFORMATION.

ADDRESSES: The 124th SSC will be held at the Council office, 1164 Bishop Street, Suite 1400, Honolulu, HI 96813, telephone: (808) 522-8220. The Fishing Industry Advisory Committee meeting will be held via teleconference, 1(888)482-3560; pass code 522-8220. The Council's Pelagic and International Standing Committee and Executive and Budget Standing Committee will also be held at the Council Office, 1164 Bishop Street, Suite 1400, Honolulu, HI, telephone: (808) 522-8220. The 168th Council meeting will be held at the Laniakea YWCA, Fuller Hall, 1040 Richards St., Honolulu, HI, telephone: (808) 538-7061. A Fishers Forum will be held at the Ala Moana Hotel, Garden Lanai room, 410 Atkinson Dr., Honolulu, HI 96814, telephone: (808) 955-4811.

FOR FURTHER INFORMATION CONTACT: Kitty M. Simonds, Executive Director, phone: (808) 522-8220.

SUPPLEMENTARY INFORMATION: The 124th SSC meeting will be held between 8:30 a.m. and 5 p.m. on October 4-6, 2016. The Fishing Industry Advisory Committee will be held between 4:00 p.m. and 6 p.m. (Hawaii Standard Time) on October 4, 2016. The Pelagic and International Standing Committee will be held between 9 a.m. and 12 noon on October 11, 2016. The Executive and Budget Standing Committee will be held on October 11, 2016 from 3 p.m. to 5 p.m. The first day of the 168th Council meeting will be on October 12, 2016, held from 8:30 a.m. to 11 a.m. The second and third days of the 168th Council meeting will be October 13-14, 2016, held from 8:30 a.m. to 5 p.m. On October 12, 2016, the Council will host a Fishers Forum between 6 p.m. and 9 p.m. at the Ala Moana Hotel, Garden Lanai Room. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 124th SSC Meeting

Tuesday, October 4, 2016, 8:30 a.m. to 5 p.m.

1. Introductions

2. Approval of Draft Agenda and Assignment of Rapporteurs

3. Status of the 123rd SSC Meeting Recommendations

4. Report from the Pacific Islands Fisheries Science Center Director

5. Insular Fisheries

A. Updates on the Hawaii Marine Recreational Fisheries Survey (HMRFS) data collection improvement project

B. Updates on the State of Hawaii research and monitoring efforts

C. Updates on The Nature Conservancy research and monitoring efforts

D. Analysis of Hawaii Management Unit Species (MUS) catch for possible ecosystem component classification

E. Productivity-Susceptibility Analysis and data-poor assessments

F. Biomass and spatial distribution of Selar crumenopthalmus from aerial surveys in Oahu

G. Public Comment

H. SSC Discussion and Recommendations

Plenary Speaker: Reflections on the Impact of Large Ocean Marine Protected Areas, Ray Hilborn

6. Program Planning

A. Expansion of NWHI Monument

1. Update

2. Economic impact of lost exclusive economic zone fishing grounds

B. Development of an integrated assessment model for data poor stocks

C. Marine Recreational Information Program (MRIP) Strategic Planning

D. Council Coral Reef Conservation Program FY 17-19 project proposals

E. Report on International Union for the Conservation of Nature (IUCN) World Conservation Congress

F. Public Comment

G. SSC Discussion and Recommendations

Wednesday, October 5, 2016, 8:30 a.m.-5 p.m.

7. Pelagic Fisheries

A. Report on the Pelagic Stock Assessment and Fishery Evaluation (SAFE) report development

B. Hawaii & American Samoa Longline Fisheries Reports

C. Report on American Samoa Large Vessel Prohibited Area (LVPA) and fisheries statistics

D. Western and Central Pacific Ocean (WCPO) Spatial Longline Bigeye Analysis

E. Report on WCPO and Eastern Pacific Ocean (EPO) Bigeye Tuna Limits

F. Factors resulting in recent increased Hawaii longline fishery bigeye CPUE

G. 2017 United States (U.S.) Participating Territory Bigeye Tuna Limits (Action Item)

H. Impact of Effort Limit Area for Purse Seine (ELAPS) on America Samoa Economy

I. International Fisheries

1. Western and Central Pacific Fisheries Commission (WCPFC) Science Committee

2. WCPFC Northern Committee

3. WCPFC Technical and Compliance Committee

4. Permanent Advisory Committee to U.S. Delegation to WCPFC

5. Continuation of 90th Inter-American Tropical Tuna Commission (IATTC) Plenary

J. Meta-regression analyses for shark catch rates

K. The Nature Conservancy Indo-Pacific Tuna Program

L. Public Comment

M. SSC Discussion and Recommendations

8. Protected Species

A. Hawaii Longline False Killer Whale Project Updates

1. Depredation mitigation device project

2. Acoustic monitoring of false killer whale depredation

B. Reconsultation of the Hawaii Deep-set longline fishery

C. Rare Events Bycatch Workshop Update

D. Updates on Endangered Species Act (ESA) and Marine Mammal Protection Act (MMPA) Actions

1. Humpback Whale Listing Final Rule

2. False Killer Whale Take Reduction Team

3. Insular False Killer Whale Recovery Planning

4. Other Actions

E. Public Comment

F. SSC Discussion and Recommendations

Thursday, October 6, 2016, 8:30 a.m. to 5 p.m.

9. Other Business

A. 125th SSC Meeting

10. Summary of SSC Recommendations to the Council

Agenda for the Fishing Industry Advisory Committee

Friday, October 7, 2016, 4 p.m. to 6 p.m.

1. Introduction and Welcome

2. Approval of Agenda

3. 2017 U.S. Participating Territory Bigeye Tuna Limit

4. Impacts of Effort Limit Area for Purse Seine (ELAPS)

5. Report on American Samoa Large Vessel Prohibited Area (LVPA) and fisheries statistics

6. Report on the Permanent Advisory Committee to U.S. Delegation to Western and Central Pacific Fisheries Commission

7. Seafood Traceability and Illegal, Unregulated and Unreported Fisheries

8. Public Comment

9. Discussion and Recommendations

Agenda for the Pelagic and International Standing Committee

Tuesday, October 11, 2016, 9 a.m. to 12 Noon

1. Addressing the Associated Press (AP) article on foreign crew in the Hawaii longline fleet

2. WCPO Spatial Longline Bigeye Analysis

3. Report on WCPO and EPO Bigeye Tuna Limits

4. 2017 U.S. Participating Territory Bigeye Tuna Limits (Action Item)

5. American Samoa LVPA exemption and recent fisheries statistics

6. International Fisheries Meetings

A. WCPFC Science Committee

B. WCPFC Northern Committee

C. WCPFC Technical and Compliance Committee

D. Permanent Advisory Committee to U.S. Delegation to WCPFC

E. Continuation of 90th IATTC Plenary

7. Advisory Group Report and Recommendations

A. Advisory Panel

B. Fishing Industry Advisory Committee

C. Scientific & Statistical Committee

8. Standing Committee Recommendations

9. Public Comment

10. Committee Discussion and Recommendations

Agenda for the Executive and Budget Standing Committee

Tuesday, October 11, 2016, 3 p.m. to 5 p.m.

1. Administrative Report

2. Financial Report

3. Expansion of NWHI Monument (Action Item)

A. Recommendations on implementing fishing provisions of the Papahanaumokuakea Monument expansion proclamation

B. Economic impact of lost EEZ fishing grounds

4. Addressing the AP article on foreign crew in the Hawaii longline fleet

5. Sustainable Hawaii Initiative

6. Regional Operating Agreement Essential Fish Habitat (EFH) Appendix

7. Meetings and Workshops

8. Council Family Changes

9. Other Issues

10. Public Comment

11. Committee Discussion and Recommendations

Agenda for the 168th Council Meeting

Wednesday, October 12, 2016, 8:30 a.m. to 11 a.m.

1. Welcome and Introductions

2. Oath of Office

3. Approval of the 168th Agenda

4. Approval of the 166th & 167th Meeting Minutes

5. Executive Director's Report

6. Agency Reports

A. National Marine Fisheries Service

1. Pacific Islands Regional Office

2. Pacific Islands Fisheries Science Center

B. NOAA Office of General Counsel, Pacific Islands Section

C. U.S. State Department

D. U.S. Fish and Wildlife Service

E. Enforcement

1. U.S. Coast Guard

2. NOAA Office of Law Enforcement

3. NOAA Office of General Counsel, Enforcement Section

F. Other Items

G. Public Comment

H. Council Discussion and Action

6 p.m.-9 p.m., Fishers Forum, Ala Moana Hotel, Garden Lanai Room, Honolulu

Thursday, October 13, 2016, 8:30 a.m. to 5 p.m.

7. Pelagic & International Fisheries

A. Addressing the AP article on foreign crew in the Hawaii longline fleet

B. Report on the Pelagic SAFE report development

C. Hawaii & American Samoa Longline Fisheries Reports

D. WCPO Spatial Longline Bigeye Analysis

E. Report on WCPO and EPO Bigeye Tuna Limits

F. 2017 U.S. Participating Territory Bigeye Tuna Limits (Action Item)

G. Impacts of ELAPS on American Samoa economy

H. American Samoa LVPA exemption and recent fisheries statistics

I. Update on Hawaii longline Electronic Reporting/Video Monitoring

J. International Fisheries Meetings

1. WCPFC Science Committee

2. WCPFC Northern Committee

3. WCPFC Technical and Compliance Committee

4. Permanent Advisory Committee to U.S. Delegation to WCPFC

5. Continuation of IATTC 90th Plenary

K. Advisory Group Report and Recommendations

1. Advisory Panel

2. Fishing Industry Advisory Committee

3. Scientific & Statistical Committee

L. Standing Committee Recommendations

M. Public Hearing

N. Council Discussion and Action

8. Program Planning and Research

A. Expansion of NWHI Monument (Action Item)

1. Recommendations on implementing fishing provisions of the Papahanaumokuakea Monument expansion proclamation

2. Economic impact of lost exclusive economic zone fishing grounds

B. MRIP Strategic Planning Workshop update

C. Council Coral Reef Conservation Program FY 17-19 project proposals

D. Updates on Marine National Monuments

1. National Marine Fisheries Service

2. U.S. Fish and Wildlife Service

E. Report on IUCN World Conservation Congress

F. Status of Aquaculture Programmatic Environmental Impact Statement

G. Regional, National and International Outreach & Education

H. Advisory Group Report and Recommendations

1. Advisory Panel

2. Social Science Planning Committee

3. Scientific & Statistical Committee

I. Public Hearing

J. Council Discussion and Action

9. Protected Species

A. Hawaii Longline False Killer Whale Project Updates

1. Depredation mitigation device project

2. Acoustic monitoring of false killer whale depredation

B. Re-consultation of the Hawaii Deep-set longline fishery

C. Rare Events Bycatch Workshop Update

D. Status of Marine Mammal Scientific Review Group Membership

E. Updates on ESA and Marine Mammal Protection Act Actions

1. Humpback Whale Listing Final Rule

2. False Killer Whale Take Reduction Team

3. Insular False Killer Whale Recovery Planning

4. Other Actions

F. Advisory Group Report and Recommendations

1. Advisory Panel

2. Scientific & Statistical Committee

G. Public Comment

H. Council Discussion and Action

Friday, October 14, 2016, 8:30 a.m. to 5 p.m.

10. Hawaii Archipelago & PRIA

A. Moku Pepa

B. Legislative Report

C. Enforcement Issues

D. Community Issues

1. Promise to Paeaina

2. Status of the Ohai Community Development Program (CDP) application

E. Report on IUCN and the Sustainable Hawaii Initiative

F. Analysis of Hawaii MUS catch for possible ecosystem component classification

G. Report on the Main Hawaiian Islands Deep-7 Bottomfish workshops

H. Updates on the HMRFS data collection improvement project

I. Update on State of Hawaii Research and Monitoring

J. Biomass and spatial distribution of Selar crumenopthalmus from aerial surveys in Oahu

K. Education and Outreach Initiatives

L. Advisory Group Report and Recommendations

1. Advisory Panel

2. Scientific & Statistical Committee

M. Public Comment

N. Council Discussion and Action

11. American Samoa Archipelago

A. Motu Lipoti

B. Fono Report

C. Enforcement Issues

D. Community Activities and Issues

1. Report on Pacific Island Regional Planning Body initiatives

E. Education and Outreach

F. Advisory Group Reports and Recommendations

1. Advisory Panel

2. Scientific & Statistical Committee

G. Public Comment

H. Council Discussion and Action

12. Mariana Archipelago

A. Guam

1. Isla Informe

2. Legislative Report

3. Enforcement Issues

4. Community Activities and Issues

a. Report on Yigo Community Planning

b. Report on sea cucumber regulations

c. Status of the Guam Fisheries Council

d. Military Expansion Issues

e. Report on Guam Coral Reef Fisheries Mapping

5. Education and Outreach Initiatives

B. Commonwealth of Northern Mariana Islands

1. Arongol Falú

2. Legislative Report

3. Enforcement Issues

4. Community Activities and Issues

a. Report on Northern Islands Community Planning

b. Military Expansion Issues

5. Education and Outreach Initiatives

C. Marianas Trench Marine National Monument Mapping Application

D. Advisory Group Reports and Recommendations

1. Advisory Panel

2. Scientific & Statistical Committee

E. Public Comment

F. Council Discussion and Action

13. Administrative Matters

A. Council Member and Staff Annual Training on Standards of Conduct

B. Financial Reports

C. Administrative Reports

D. Update on information inquiries and responses

E. Regional Operating Agreement—Essential Fish Habitat Appendix

F. Council Family Changes

G. Meetings and Workshops

H. Other Business

I. Standing Committee Recommendations

J. Public Comment

K. Council Discussion and Action

14. Election of Officers

15. Other Business

Non-emergency issues not contained in this agenda may come before the Council for discussion and formal Council action during its 168th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 13, 2016.
Jeffrey N. Lonergan,
Acting Deputy Director, Office of Sustainable Fisheries, National Marine Fisheries Service.

[FR Doc. 2016-22331 Filed 9-15-16; 8:45 am]

BILLING CODE 3510-22-P